GENERAL SERVICES ADMINISTRATION

[Notice-PBS-2023-05; Docket No. 2023-0002; Sequence No. 26]

Draft Environmental Impact Statement for the Buildings at 202, 214, and 220 South State Street, Chicago, Illinois

AGENCY: Public Building Service (PBS), General Services Administration (GSA).

ACTION: Notice of availability (NOA).

SUMMARY: GSA, in cooperation with the Federal Protective Service (FPS) and in accordance with the National Environmental Policy Act (NEPA), announces the availability, and opportunity for public review and comment, of the Draft Environmental Impact Statement (DEIS) for the buildings at 202, 214, and 220 South State Street, Chicago, Illinois. GSA is considering two action alternatives (Alternative A, Demolition or Alternative B, Viable Adaptive Reuse of the buildings) and a No Action Alternative.

DATES: GSA will hold a public hearing for the Draft EIS on Monday, October 2, 2023, from 3:00 p.m. to 5:00 p.m. Central Daylight Time (CDT) at the Morrison Conference Center, Metcalfe Federal Building located at 77 West Jackson Boulevard, Chicago, IL. The public may attend the hearing in person or participate virtually in the hearing by registering at https://GSA-South_State-Street-Public-Hearing.eventbrite.com.

Council on Environmental Quality (CEQ) Regulations require a minimum 45-day review period. The review period starts on September 15, 2023, when the NOA of the draft EIS is published in the Federal Register. Comments are due to the GSA contact named below no later than Tuesday, October 31, 2023. GSA will address and incorporate public comments received as it prepares the Final EIS.

ADDRESSES: Comments may be presented orally or in writing during the meeting, by email, and by mail. All comments received will become public and part of the Administrative Record. Questions or comments concerning the Draft EIS should be directed to:

• Email: statestreet@gsa.gov.

• Mail: Joseph Mulligan, U.S. General Services Administration, 230 S. Dearborn St., Suite 3600, Chicago, IL 60604

Further information, including an electronic copy of the Draft EIS, may be found online on the following website: https://www.gsa.gov/about-us/regions/region-5-great-lakes/buildings-and-facilities/illinois/chicago-202220-s-state-st-fps.

FOR FURTHER INFORMATION CONTACT: Joseph Mulligan, GSA, 230 S. Dearborn St., Suite 3600, Chicago, IL 60604; cell: 312-886-8593; email: statestreet@gsa.gov.

SUPPLEMENTARY INFORMATION:

Proposed Action

The Proposed Action is to address the future of the three vacant buildings at 202, 214 and 220 South State Street, east of the Dirksen Courthouse. The purpose of the Proposed Action is to address the security needs of the Dirksen Courthouse, respond to Congressional intent considering the authorization of funds made to GSA by Congress in the 2022 Consolidated Appropriations Act, and manage Federal assets.

Alternatives Under Consideration

Demolition (Alternative A): This alternative would demolish the buildings at 202, 214 and 220 South State Street, Chicago, Illinois. In the 2022 Consolidated Appropriations Act, Congress appropriated funding to GSA for the purpose of demolition of the buildings, protecting adjacent buildings, securing the site, and landscaping the vacant site following demolition.

Viable Adaptive Reuse (Alternative B): This alternative would involve contracting with one or more private developers to lease and use the three buildings at 202, 214, and 220 South State Street in accordance with the 15 viable adaptive reuse criteria, listed below, that were developed by GSA in collaboration with the U.S. District Court for Northern Illinois and Federal law enforcement agencies. These criteria were established to achieve GSA's and Federal law enforcement agencies' security objectives for the Dirksen Courthouse and would apply to any future uses of the buildings. No Federal funds would be available for rehabilitation, preservation, or restoration of buildings at 202, 214, and 220 South State Street, Chicago, Illinois; therefore, any rehabilitation or modification of the buildings to meet the criteria would not be performed at the Federal Government's expense. However, developers will have the opportunity to make improvements to the buildings in lieu of rent in accordance with section 111 of the National Historic Preservation Act. GSA will consider viable adaptive reuse alternatives if they meet or exceed the following viable adaptive reuse criteria. These restrictions would be applicable to all tenants and subtenants in perpetuity:

1. The Federal Government must retain ownership interests to achieve its security objectives, as determined by the government in its discretion.

2. Occupancy/Use: Properties shall not be used for short-term or long-term residential or lodging, places of worship, or medical treatment, services, or research. No use that requires access to outdoor areas is permitted.

3. Access to the roof is restricted to maintenance and repair activities. Personnel and materials that will be present in this area shall be subject to clearance and controls necessary to meet court security objectives.

4. Developer would have no access or use rights to Quincy Court.

5. Loading is prohibited in Quincy Court and otherwise restricted in a manner to achieve court security. Loading on State or Adams Streets would be subject to local ordinance requirements.

6. Occupants and users of the buildings shall have no sight lines into the Dirksen Courthouse, the Dirksen Courthouse ramp, or the Quincy Court properties owned by GSA.

7. No parking or vehicle access is permitted on or within the properties.

8. Developer is responsible for staffing, at their expense, security 24 hours with personnel approved by the Federal Protective Service or an entity to whom security services are delegated by Federal Protective Service.

9. Developer must obtain and maintain access control systems to prevent unauthorized access to any location within the structures. Each exterior entrance point must have an intrusion detection system and access control system installed, and Developer must provide Federal law enforcement access to each system.

10. Developer must install and maintain interior and exterior security cameras and provide Federal law enforcement officials with access and the ability to monitor the feeds in real time.

11. Developer must install exterior lighting necessary to achieve courthouse security objectives.

12. Perimeter Security: Developer must prevent unauthorized access to the properties that would result in an unapproved sight line.

13. Fire escapes, and any other structures that would allow access from the street, must be removed.

14. All construction documents and specifications for any renovation, rehabilitation, modification, or construction of any portion of the building (interior or exterior) will be subject to review and approval by Federal law enforcement agencies.

15. No project may start without the advance approval of GSA.

No Action Alternative

GSA would continue to monitor the buildings' condition and secure the buildings; the buildings would remain in place and vacant, in need of significant repairs. GSA would also continue its efforts to develop a long-term plan for the buildings, as it has since it acquired them. GSA would have limited Federal funds available to continue with the maintenance and the buildings would be at risk of further deterioration.

After the Notice of Intent to prepare this Draft EIS was issued, GSA undertook an emergency action to demolish 208-212 South State Street because the structure posed an immediate threat to human health and safety. The demolition of 208-212 South State Street, a non-historic property, was a separate action and GSA completed an emergency Environmental Assessment (EA) to comply with NEPA. 208-212 South State Street was thus removed from the analysis of this Proposed Action.

Summary of Potential Impacts

The Draft EIS identifies, describes, and analyzes the potential effects of the Action and No Action alternatives, including direct, indirect, and cumulative effects. GSA identified the following resources for analysis of both beneficial and adverse potential impacts: cultural resources; aesthetic and visual resources; land use and zoning; community facilities; socioeconomics and environmental justice; greenhouse gas, climate change, and embodied carbon; hazardous materials and solid waste; air quality; noise; health and safety; and transportation and traffic. The Draft EIS considers measures that would avoid, minimize, or mitigate identified adverse impacts. GSA welcomes public input on these potential impacts.

National Historic Preservation Act

In addition to NEPA, consultation under section 106 of the NHPA is occurring concurrently with the NEPA process. Two of the three buildings being considered for demolition are the Century Building (202 South State Street) and the Consumers Building (220 South State Street), which are historic resources that contribute to the Loop Retail Historic District listed in the National Register of Historic Places (NRHP). In this proposed action, 214 South State Street is being treated as eligible for listing in the NRHP as a contributing resource to the Loop Retail Historic District.

Schedule for Decision-Making Process

The following is a list of estimated time frames to complete the NEPA process:

• Draft EIS Public Comment Period: September 15 to October 31, 2023

• Final EIS: February 2024

• Record of Decision: April 2024

William Renner,
Director, Facilities Management and Services Programs Division Great Lakes Region 5, U.S. General Services Administration.

[FR Doc. 2023-19518 Filed 9-14-23; 8:45 am]

BILLING CODE 6820-CF-P